DEPARTMENT OF HOMELAND SECURITY

8 CFR Chapter I

[USCIS Docket No. USCIS-2019-0021]

RIN 1615-AC49

Ratification of Department Action

AGENCY: Department of Homeland Security (DHS).

ACTION: Ratification.

SUMMARY: The Department of Homeland Security is publishing notice of the Secretary of Homeland Security's ratification of a rule.

DATES: The ratification was signed on August 20, 2025 and relates back to the original date of the action that it ratifies.

FOR FURTHER INFORMATION CONTACT: Office of the General Counsel, DHS, Washington, DC 20528 (202) 282-9822.

SUPPLEMENTARY INFORMATION: On August 20, 2025, the Secretary of Homeland Security ratified the interim final rule titled “Implementing Bilateral and Multilateral Asylum Cooperative Agreements Under the Immigration and Nationality Act.” See 84 FR 63994 (Nov. 19, 2019). DHS is now publishing the ratification in the Federal Register out of an abundance of caution. Neither the ratification nor the publication is a statement that the ratified action would be invalid absent the ratification, whether published or otherwise.

Joseph N. Mazzara,
Acting General Counsel, U.S. Department of Homeland Security.

Appendix

[FR Doc. 2025-16809 Filed 8-29-25; 8:45 am]

BILLING CODE 9110-9M-P